DEPARTMENT OF COMMERCE

Patent and Trademark Office

Submission for OMB Review; Comment Request; Patent Trial Appeal Board (PTAB) Actions

The United States Patent and Trademark Office (USTPO) will submit to the Office of Management and Budget (OMB) for clearance the following proposal for collection of information under the provisions of the Paperwork Reduction Act (44 U.S.C. Chapter 35).

Agency: United States Patent and Trademark Office, Commerce.

Title: Patent Trial Appeal Board (PTAB) Actions.

OMB Control Number: 0651-0063.

Form Number(s): None.

Type of Request: Revision of a currently existing collection.

Number of Respondents: 23,660.

Average Hours per Response: Between 2 and 32 hours, depending upon the instrument used.

Burden Hours: 555,098 hours.

Cost Burden: $46,049,937.65.

Needs and Uses: The Patent Trial and Appeal Board (PTAB or Board) is established by statute under 35 U.S.C. 6. This statute directs that PTAB “shall on written appeal of an applicant, review adverse decisions of examiners upon applications for patent and shall determine priority and patentability of invention in interferences.” PTAB has the authority, under pre-AIA sections of the Patent Act, i.e., 35 U.S.C. 134, 135, 306, and 315, to decide ex parte and inter partes appeals and interferences. The membership of the Board is established under 35 U.S.C. 6. This collection permits applicants to prepare appeal and reply briefs which set forth the claims, issues, and arguments on appeal to the PTAB and permits applicants to file amendments to cancel pending, rejected claims that they do not wish to be considered on appeal by the Board. Applicants may request that the PTAB reconsider its decision by filing a request for rehearing before the PTAB. Parties may also petition the Chief Administrative Patent Judge on matters pending before the Board. The PTAB uses the information to aid in rendering a decision on the claims, issues, and arguments submitted by the applicant, to determine which claims are on appeal, to decide whether to grant or deny a request for reconsideration of a decision, and to determine whether the necessary information has been provided to grant the petition. There are no forms associated with the items in this collection; however, they are governed by the rules in Part 41 and failure to comply with the appropriate rule may result in the dismissal of the appeal or denial of entry of the paper.

Affected Public: Businesses or other for-profits; not-for-profit institutions.

Frequency: On occasion.

Respondent's Obligation: Required to Obtain or Retain Benefits.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0063 copy request” in the subject line of the message.

• Mail: Marcie Lovett, Records and Information Governance Division Director, Office of the Chief Technology Officer, United States Patent and Trademark Office, P.O. Box 1450, Alexandria, VA 22313-1450.

Written comments and recommendations for the proposed information collection should be sent on or before May 26, 2017 to Nicholas A. Fraser, OMB Desk Officer, via email to Nicholas_A._Fraser@omb.eop.gov, or by fax to 202-395-5167, marked to the attention of Nicholas A. Fraser.

Dated: April 14, 2017.
Marcie Lovett,
Records and Information Governance Division Director, OCTO, United States Patent and Trademark Office.

[FR Doc. 2017-08420 Filed 4-25-17; 8:45 am]

BILLING CODE 3510-16-P